FEDERAL EMERGENCY MANAGEMENT AGENCY

Crisis Counseling Assistance and Training

AGENCY: Federal Emergency Management Agency.

ACTION: Notice.

SUMMARY: FEMA gives notice that the extension period for the New Mexico regular Crisis counseling program for disaster survivors of the Cerro Grande Fires is extended from 90 days to 180 days. The severity of emotional trauma resulting from the fires warrants an extension of six months.

EFFECTIVE DATE: September 15, 2001.

FOR FURTHER INFORMATION CONTACT: Ron Goins, Human Services Division, Response and Recovery Directorate, Federal Emergency Management Agency, 500 C Street SW., Washington, DC 20472, (202) 646-3997.

SUPPLEMENTARY INFORMATION: The Federal Emergency Management Agency (FEMA) is charged with coordinating Federal disaster assistance under the provisions of the Robert T. Stafford Disaster Relief and Emergency Assistance Act, 42 U.S.C. 5121-5206 (the Act) when the President has declared a major disaster. FEMA provided funding for a regular crisis counseling program to help those suffering the trauma resulting from the Cerro Grande Fires.

FEMA received a request from the State of New Mexico to extend the otherwise applicable time limitations authorized by Section 416 of the Act, so that the State can provide additional mental health services that are critically needed for citizens during the recovery operation and to complete the necessary reporting requirements to finalize the program. The extent of the emotional impact is of such magnitude that continuation of disaster mental health counseling beyond the normal crisis counseling time period is necessary.

The Director, Center for Mental Health Services (CMHS), as the delegate to FEMA for the Secretary, Department of Health and Human Services, helps FEMA implement crisis counseling training and assistance. FEMA believes there was a well-established need for continuation of the regular crisis counseling program beyond a 90-day extension. Based upon the sound CMHS recommendation, FEMA has approved a 180-day extension to the time period for the New Mexico regular crisis counseling program.

(Catalog of Federal Domestic Assistance N. 83.516, Disaster Assistance)
Dated: June 4, 2001.
Lacy E. Suiter,
Executive Associate Director.

[FR Doc. 01-14573 Filed 6-8-01; 8:45 am]

BILLING CODE 6718-02-P